DEPARTMENT OF ENERGY

Federal Energy Regulatory Commission

[Docket No. RM10-11-000]

Integration of Variable Energy Resources; Notice Extending Comment Period

March 3, 2010.

On February 23, 2010, Edison Electric Institute (EEI) filed a motion requesting an extension of the period in which to file comments in response to the Commission's January 21, 2010 Notice of Inquiry (NOI) in this proceeding.¹ EEI requests a fourteen-day extension of the comment period, which would result in a comment due date of April 12, 2010. Additionally, on February 26, 2010, Bonneville Power Administration (BPA) filed a motion requesting an extension of at least fourteen days.²

¹ Integration of Variable Energy Resources, 130 FERC ¶ 61,053 (2010).

² BPA indicates, however, that its preference would be for a twenty-one day extension of the comment period.

Upon consideration, notice is hereby given that the period during which interested parties may file comments in response to the Commission's NOI in this proceeding is extended by fourteen days. Comments are now due on or before April 12, 2010.

Kimberly D. Bose,
Secretary.

[FR Doc. 2010-5043 Filed 3-9-10; 8:45 am]

BILLING CODE 6717-01-P